DEPARTMENT OF THE INTERIOR

Office of Surface Mining Reclamation and Enforcement

[S1D1S SS08011000 SX064A000 245S180110; S2D2S SS08011000 SX064A000 24XS501520]

Notice of Availability of the Draft Supplemental Environmental Impact Statement Federal Mining Plan Modification for Federal Coal Lease MTM 082186 at the Rosebud Mine Area F; Rosebud Mine Area F Mining Plan Modification SEIS

AGENCY: Office of Surface Mining Reclamation and Enforcement, Interior.

ACTION: Notice of availability of the draft supplemental environmental impact statement.

SUMMARY: The Office of Surface Mining Reclamation and Enforcement (OSMRE) has prepared a Draft Supplemental Environmental Impact Statement (Draft SEIS) for the Federal Mining Plan Modification for Federal Coal Lease MTM 082186 at the Rosebud Mine Area F (Project), located in Treasure and Rosebud Counties, Montana. The proposed action would allow for continued mining operations in the Area F permit area, resulting in an estimated disturbance of up to 4,288 acres and the extraction of approximately 71.3 million tons of coal. The Draft SEIS was prepared in response to deficiencies identified by the United States District Court for the District of Montana in the 2018 Western Energy Area F Final Environmental Impact Statement. OSMRE invites public comments on the Draft SEIS during a 45-day public comment period, with a public meeting to be held to gather additional input.

DATES: OSMRE requests comments concerning the analyses in the Draft SEIS. All comments must be received by January 21, 2025. The public meeting will be held at the City of Colstrip City Hall, City Council Chambers, Colstrip Municipal Building located at 12 Cherry Street, Colstrip, Montana from 4:30 to 7:30 p.m. MST on January 8, 2025.

ADDRESSES: You may submit comments related to the Project by any of the following methods:

Email: rosebudmineareafseis@eroresources.com.

Be sure to send emails with the subject line: ATTN: Rosebud Mine Area F Mining Plan Modification SEIS.

Mail: ATTN: Rosebud Mine Area F Mining Plan Modification SEIS, C/O: Roberta Martínez Hernández, OSMRE Regions 5, 7-11, P.O. Box 25065, Denver, CO 80225-0065.

FOR FURTHER INFORMATION CONTACT: Roberta Martínez Hernández, Project Coordinator by telephone: 303-236-4705, email at rmartinezhernandez@osmre.gov, or at the address provided in the ADDRESSES section.

Individuals who use telecommunication devices for the deaf (TDD) may call the Federal Information Relay Service (FIRS) at 1-800-877-8339 between 8 a.m. and 8 p.m., Eastern Time, Monday through Friday.

SUPPLEMENTARY INFORMATION: OSMRE has prepared a Draft SEIS for the Rosebud Mine Area F Project for inclusion in its mining plan decision document, which will also include a recommendation from OSMRE to the Assistant Secretary for Land and Minerals Management (ASLM) of the Department of the Interior on whether to approve, disapprove, or conditionally approve the Federal mining plan modification. This recommendation is made in accordance with 30 Code of Federal Regulations (CFR) 746.13. The Project involves Federal coal leased under MTM 082186 and, therefore, requires approval from the ASLM under the Mineral Leasing Act of 1920.

OSMRE initially published an EIS for Rosebud Area F in November 2018. That EIS was challenged, and the United States District Court for the District of Montana held in Montana Environmental Information Center v. Haaland, No. CV 19-130-BLG-SPW (D. Mont. 2022) that the EIS failed to analyze a reasonable range of alternatives, failed to provide high-quality accurate scientific analysis on the economic costs of greenhouse gas emissions from Area F, and did not take a hard look at cumulative impacts on surface water. The Draft SEIS updates and expands on the environmental analysis in the 2018 EIS and provides the additional impacts analysis identified as deficient by the district court.

The Rosebud Mine is operated by Westmoreland Rosebud Mining LLC under Permit C2011003F, issued by the Montana Department of Environmental Quality (DEQ), in accordance with its State mine permit. As proposed, the Project would result in 4,288 acres of surface disturbance and recovery of 71.3 million tons of coal.

Purpose and Need for the Proposed Action

OSMRE's purpose in preparing the Draft SEIS is to fully analyze the environmental impacts associated with the proposed Federal mining plan modification for Rosebud Mine Area F. This analysis specifically addresses the deficiencies identified by the United States District Court for the District of Montana so that OSMRE can make an informed recommendation to the ASLM to approve, disapprove, or conditionally approve the proposed Federal mining plan modification for Rosebud Mine Area F. Westmoreland Rosebud Mining LLC, the current operator, will not be allowed to continue mining or recover the remaining Federal coal in Area F unless OSMRE completes its National Environmental Policy Act (NEPA) analysis and the ASLM approves the Federal mining plan modification.

Proposed Project

The proposed Project would result in 4,288 acres of surface disturbance and the recovery of 71.3 million tons of coal in the Rosebud Mine Area F.

Summary of Expected Impacts

Reasonably foreseeable effects of mining Federal coal have been evaluated for the following resources in the Draft SEIS:

• Air quality (measured as concentration of criteria air pollutants regulated under the National Ambient Air Quality Standards, Hazardous Air Pollutants, and Air Quality Related Values such as visibility (haze) and atmospheric deposition)

• Climate and climate change (emissions of greenhouse gases are quantified and analyzed as they relate to climate change, measured in terms of carbon dioxide equivalent for both 20-year and 100-year global warming potentials and characterized using the social cost of greenhouse gases)

• Surface water and groundwater quality and quantity

• Socioeconomic effects, including changes to State and local taxes, royalties, fees, lease bids, bonuses, payroll benefits, and effects on environmental justice populations

• Federally listed threatened and endangered species and their critical habitats

• Geology

• Soils

• Cultural resources

• Visual resources

• Wildlife

• Public health and safety

• Vegetation

• Wetlands and riparian zones

• Paleontology

• Access and transportation

• Solid and hazardous waste

• Noise

• Land use

Anticipated Permits and Authorizations

ASLM approval, disapproval, or approval with conditions of the Federal mining plan modification is required under the Mineral Leasing Act of 1920.

Public Comment Period

This Notice of Availability initiates the comment period, which allows OSMRE to gather input on the analyses included in the Draft SEIS. In addition to this notice and OSMRE's website at https://www.osmre.gov/laws-and-regulations/nepa/projects, interested stakeholders, agencies, and tribes will be notified of the 45-day comment period via mailed letters, and the OSMRE Office of Communications will coordinate a press release.

All public comments must be submitted by email or by hard copy mail to the address listed under ADDRESSES. Before including your address, phone number, email address, or other personal identifying information in your comment, you should be aware that your entire comment—including your personal identifying information—may be made public at any time. While you may request in your comment to withhold your personal identifying information from public review, OSMRE cannot guarantee that this will occur.

The Project web page will include the description of the Project as submitted by Westmoreland Rosebud Mining LLC, a map of the proposed mining plan, and information about how to submit public comments on issues or concerns related to the Project that are analyzed in the NEPA document.

OSMRE will review public comments and prepare formal responses to all substantive comments. OSMRE will make revisions as needed based on input from the public while preparing the Final SEIS.

Lead and Cooperating Agencies

OSMRE is the lead agency for the Draft SEIS. The Bureau of Land Management is a cooperating agency on the OSMRE Draft SEIS.

Decision Maker

The ASLM is the decision maker for the Draft SEIS.

Nature of Decision To Be Made

Informed by the NEPA analysis, OSMRE will make a recommendation to the ASLM about the Federal mining plan modification associated with development of the Rosebud Mine Area F. The ASLM will use OSMRE's recommendation to decide if the new Federal mining plan modification is approved, disapproved, or approved with conditions. OSMRE's recommendation to the ASLM is based, at a minimum, on the documentation specified at 30 CFR 746.13.

David Berry,
Regional Director, OSMRE Regions 5, 7-11.

[FR Doc. 2024-28354 Filed 12-5-24; 8:45 am]

BILLING CODE 4310-05-P